INTERNATIONAL TRADE COMMISSION

[Investigation No. 337-TA-1106]

Certain Toner Cartridges and Components Thereof; Commission Determination Not To Review an Initial Determination Amending the Complainant and Notice of Investigation

AGENCY: U.S. International Trade Commission.

ACTION: Notice.

SUMMARY: Notice is hereby given that the U.S. International Trade Commission has determined not to review an initial determination (“ID”) (Order No. 18) of the presiding administrative law judge (“ALJ”) amending the complaint and notice of investigation in the above-captioned investigation.

FOR FURTHER INFORMATION CONTACT: Clint Gerdine, Esq., Office of the General Counsel, U.S. International Trade Commission, 500 E Street SW, Washington, DC 20436, telephone (202) 708-2310. Copies of non-confidential documents filed in connection with this investigation are or will be available for inspection during official business hours (8:45 a.m. to 5:15 p.m.) in the Office of the Secretary, U.S. International Trade Commission, 500 E Street SW, Washington, DC 20436, telephone (202) 205-2000. General information concerning the Commission may also be obtained by accessing its internet server at https://www.usitc.gov. The public record for this investigation may be viewed on the Commission's electronic docket (EDIS) at https://edis.usitc.gov. Hearing-impaired persons are advised that information on this matter can be obtained by contacting the Commission's TDD terminal on (202) 205-1810.

SUPPLEMENTARY INFORMATION: The Commission instituted this investigation on March 29, 2018, based on a complaint filed on behalf of Canon U.S.A. Inc. of Melville, New York and Canon Virginia, Inc. of Newport News, Virginia. 83 FR 13516-17. The complaint alleges violations of section 337 of the Tariff Act of 1930, as amended, 19 U.S.C. 1337, by reason of infringement of certain claims of U.S. Patent Nos. 9,746,826 (“the '826 patent”); 9,836,021 (“the '021 patent”); 9,841,727 (“the '727 patent”); 9,841,728 (“the '728 patent”); 9,841,729 (“the '729 patent”); 9,857,764 (“the '764 patent”); 9,857,765 (“the '765 patent”); 9,869,960 (“the '960 patent”); and 9,874,846. The Commission's notice of investigation named numerous respondents including Aster Graphics Co., Ltd. (“Aster Graphics”) of Guangdong, China; Do It Wiser LLC d/b/a Image Toner (“Image Toner”) of Alpharetta, Georgia; Global Cartridges of Burlingame, California; GPC Trading Co., Ltd. d/b/a GPC Image (“GPC Image”) of Kowloon, Hong Kong; and The Supplies Guys, LLC of Lancaster, Pennsylvania. The Office of Unfair Import Investigations is also a party to the investigation.

On June 13, 2018, complainants filed an unopposed amended motion to amend the complaint and notice of investigation (“NOI”) to do the following: (1) Change the name of respondent The Supplies Guys, LLC to The Supplies Guys, Inc.; (2) correct the addresses for respondents Image Toner, Global Cartridges, and GPC Image; (3) terminate the investigation as to Aster Graphics; (4) add respondent Aster Graphics Company Ltd. (“Aster Graphics Company”) of Kowloon, Hong Kong to the investigation; (5) supplement complainants' identification of related court proceedings and patent applications related to the asserted patents in this investigation; and (6) terminate the investigation as to claims 3-4, 7, and 9 of the '826 patent; claims 5, 9, and 11 of the '021 patent; all asserted claims of the '727 and '728 patents; claims 2, 6, 10, 14, 19, 21, and 24 of the '729 patent; claim 8 of the '764 patent; claim 17 of the '765 patent; and claim 7 of the '960 patent.

The ALJ issued the subject ID on June 28, 2018, granting complainants' motion to amend the complaint and NOI. She found that good cause exists to grant the motion to amend under Commission rule 210.14(b)(1) because (1) complainant only learned during discovery that Aster Graphics Company of Hong Kong should replace Aster Graphics of China; and (2) complainants' motion is unopposed. The ALJ also found that no extraordinary circumstances exist to prevent the termination of these claims from the investigation and that such termination is in the public interest. No petitions for review were filed.

The authority for the Commission's determination is contained in section 337 of the Tariff Act of 1930, as amended, 19 U.S.C. 1337, and in Part 210 of the Commission's Rules of Practice and Procedure, 19 CFR part 210.

By order of the Commission.
Issued: July 23, 2018.
Lisa Barton,
Secretary to the Commission.

[FR Doc. 2018-15990 Filed 7-25-18; 8:45 am]

BILLING CODE 7020-02-P